DEFENSE BASE CLOSURE AND REALIGNMENT COMMISSION

Notice of the Defense Base Closure and Realignment Commission— Change to the Agenda of a Previously Announced Open Meeting (Clovis, NM); Correction

AGENCY: Defense Base Closure and Realignment Commission.

ACTION: Notice of the Defense Base Closure and Realignment Commission—Change to the Agenda of a Previously Announced Open Meeting (Clovis, NM); Correction.

SUMMARY: The Defense Base Closure and Realignment Commission published a document in the Federal Register of June 7, 2005, concerning an open meeting to receive comments from Federal, state and local government representatives and the general public on base realignment and closure actions in New Mexico that have been recommended by the Department of Defense (DoD). The agenda for this meeting has changed.

The delay of this change notice resulted from recent requests from representatives of communities in Arizona and Nevada to accommodate delegations from those communities and the short time-frame established by statute for the operations of the Defense Base Closure and Realignment Commission. The Commission requests that the public consult the 2005 Defense Base Closure and Realignment Commission Web site, http://www.brac.gov, for updates.

FOR FURTHER INFORMATION CONTACT: Please see the 2005 Defense Base Closure and Realignment Commission Web site, http://www.brac.gov. The Commission invites the public to provide direct comment by sending an electronic message through the portal provided on the Commission's website or by mailing comments and supporting documents to the 2005 Defense Base Closure and Realignment Commission, 2521 South Clark Street Suite 600, Arlington, Virginia 22202-3920. The Commission requests that public comments be directed toward matters bearing on the decision criteria described in The Defense Base Closure and Realignment Act of 1990, as amended, available on the Commission website. Sections 2912 through 2914 of that Act describe the criteria and many of the essential elements of the 2005 BRAC process. For questions regarding this announcement, contact Mr. Dan Cowhig, Deputy General Counsel and Designated Federal Officer, at the Commission's mailing address or by telephone at 703-699-2950 or 2708.

Correction

In the Federal Register of June 7, 2005, in FR Doc. 05-11235, on page 33127, in the second and third columns, correct the “Summary” caption to read:

SUMMARY: A delegation of Commissioners of the Defense Base Closure and Realignment Commission will meet on June 24, 2005 from 8:30 a.m. to 12 p.m. at the Marshall Junior High School, 100 Commerce Way, Clovis, New Mexico 88101, to receive comments from Federal, state and local government representatives and the general public on base realignment and closure actions in Arizona, Nevada and New Mexico that have been recommended by the Department of Defense (DoD).

The purpose of this regional meeting is to allow communities experiencing a base closure or major realignment action (defined as loss of 300 civilian positions or 400 military and civilian positions) an opportunity to voice their concerns, counter-arguments, and opinions in a live public forum. This meeting will be open to the public, subject to the availability of space. Sign language interpretation will be provided. The delegation will not render decisions regarding the DoD recommendations at this meeting, but will gather information for later deliberations by the Commission as a whole.

Dated: June 14, 2005.
Jeannette Owings-Ballard,
Administrative Support Officer.

[FR Doc. 05-12083 Filed 6-20-05; 8:45 am]

BILLING CODE 5001-06-P